DEPARTMENT OF ENERGY

Federal Energy Regulatory Commission

Combined Notice of Filings #1

Take notice that the Commission received the following electric rate filings:

Docket Numbers: ER14-500-002.

Applicants: New York Independent System Operator, Inc.

Description: NYISO Compliance filing—ICAP DCR to be effective 1/28/2014.

Filed Date: 2/24/14.

Accession Number: 20140224-5131.

Comments Due: 5 p.m. ET 3/17/14.

Docket Numbers: ER14-1356-000.

Applicants: Otter Tail Power Company.

Description: Notice of Termination of Construction Management Agreement to be effective 4/25/2014.

Filed Date: 2/24/14.

Accession Number: 20140224-5141.

Comments Due: 5 p.m. ET 3/17/14.

Docket Numbers: ER14-1357-000.

Applicants: Southwest Power Pool, Inc.

Description: Integrated Marketplace Attachment X, Article 5A Revisions to be effective 5/1/2014.

Filed Date: 2/24/14.

Accession Number: 20140224-5177.

Comments Due: 5 p.m. ET 3/17/14.

Docket Numbers: ER14-1358-000.

Applicants: PJM Interconnection, L.L.C.

Description: Original Service Agreement Nos. 3483 & 3484; Queue No. W3-032A to be effective 1/23/2014.

Filed Date: 2/24/14.

Accession Number: 20140224-5216.

Comments Due: 5 p.m. ET 3/17/14.

Docket Numbers: ER14-1359-000.

Applicants: NYSEG Solutions, LLC.

Description: Normal notice of succession to be effective 12/31/2013.

Filed Date: 2/25/14.

Accession Number: 20140225-5004.

Comments Due: 5 p.m. ET 3/18/14.

Docket Numbers: ER14-1360-000.

Applicants: Energetix DE, LLC.

Description: Normal notice of succession to be effective 12/31/2013.

Filed Date: 2/25/14.

Accession Number: 20140225-5005.

Comments Due: 5 p.m. ET 3/18/14.

Docket Numbers: ER14-1361-000.

Applicants: Pacific Gas and Electric Company.

Description: Notice of Termination of a Service Agreement for Wholesale Distribution Service for the City and County of San Francisco, Service Agreement No. 26 under PG&E's FERC Electric Tariff Volume No. 4 of Pacific Gas and Electric Company.

Filed Date: 2/25/14.

Accession Number: 20140225-5022.

Comments Due: 5 p.m. ET 3/18/14.

Docket Numbers: ER14-1362-000.

Applicants: Arizona Public Service Company.

Description: Arizona Public Service Company Cancellation of Rate Schedule No. 239.

Filed Date: 2/25/14.

Accession Number: 20140225-5037.

Comments Due: 5 p.m. ET 3/18/14.

Docket Numbers: ER14-1363-000.

Applicants: Kendall Green Energy LLC.

Description: Kendall Green Notice of Succession to be effective 1/31/2014.

Filed Date: 2/25/14.

Accession Number: 20140225-5039.

Comments Due: 5 p.m. ET 3/18/14.

Docket Numbers: ER14-1364-000.

Applicants: Southern California Edison Company.

Description: LGIA with Oro Verde Solar 1, L.P. and Oro Verde Solar 2, L.P. to be effective 2/26/2014.

Filed Date: 2/25/14.

Accession Number: 20140225-5054.

Comments Due: 5 p.m. ET 3/18/14.

Docket Numbers: ER14-1365-000.

Applicants: Duke Energy Progress, Inc.

Description: PEMC Amendment to RS 172 to be effective 2/25/2014.

Filed Date: 2/25/14.

Accession Number: 20140225-5061.

Comments Due: 5 p.m. ET 3/18/14.

Docket Numbers: ER14-1366-000.

Applicants: Southern California Edison Company.

Description: Notice of Cancellation of LGIA with Green Borders Geothermal, LLC to be effective 1/9/2014.

Filed Date: 2/25/14.

Accession Number: 20140225-5062.

Comments Due: 5 p.m. ET 3/18/14.

Docket Numbers: ER14-1367-000.

Applicants: City of Dover, Delaware.

Description: Petition of CITY OF DOVER, DELAWARE for Limited Waiver of the PJM Interconnection, L.L.C. Open Access Transmission Tariff and Request for Action by March 20, 2014.

Filed Date: 2/25/14.

Accession Number: 20140225-5105.

Comments Due: 5 p.m. ET 3/18/14.

Take notice that the Commission received the following electric securities filings:

Docket Numbers: ES14-27-000.

Applicants: International Transmission Company.

Description: Supplement to January 31, 2014 Application pursuant to Section 204 of the Federal Power Act of International Transmission Company for authorization to issue debt securities.

Filed Date: 2/24/14.

Accession Number: 20140224-5089.

Comments Due: 5 p.m. ET 3/6/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 25, 2014.
Nathaniel J. Davis, Sr.,
Deputy Secretary.

[FR Doc. 2014-05324 Filed 3-11-14; 8:45 am]

BILLING CODE 6717-01-P